DEPARTMENT OF HOUSING AND URBAN DEVELOPMENT

[Docket No. FR-5603-N-32]

Notice of Submission of Proposed Information Collection to OMB Housing for Youth Aging Out of Foster Care

AGENCY: Office of the Chief Information Officer, HUD.

ACTION: Notice.

SUMMARY: The proposed information collection requirement described below has been submitted to the Office of Management and Budget (OMB) for review, as required by the Paperwork Reduction Act. The Department is soliciting public comments on the subject proposal.

This information collection will support research on the role of Family Unification Program vouchers in providing housing for youth aging out of foster care. A survey will be administered to all public housing agencies (PHA) that have an allotment of Family Unification program vouchers (n=300) to determine whether or not their program is currently serving youth aging out of foster care, and why or why not; and for those PHAs that are serving youth, to explore and document key aspects of the program, including the role of the public child welfare agency (PCWA) in the provision of services, the challenges in implementing the program and any strategies employed to overcome challenges; and any outcome data that might be available related to vouchers and their partnering Public Child Welfare Agencies (PCWA).

DATES: Comments Due Date: June 4, 2012.

ADDRESSES: Interested persons are invited to submit comments regarding this proposal. Comments should refer to the proposal by name and/or OMB approval Number (2528-New) and should be sent to: HUD Desk Officer, Office of Management and Budget, New Executive Office Building, Washington, DC 20503; fax: 202-395-5806. Email: OIRA_Submission@omb.eop.gov. fax: 202-395-5806.

FOR FURTHER INFORMATION CONTACT: Colette Pollard, Reports Management Officer, QDAM, Department of Housing and Urban Development, 451 Seventh Street SW., Washington, DC 20410; email Colette Pollard at Colette.Pollard@hud.gov or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Housing for Youth Aging Out of Foster Care.

OMB Approval Number: 2528-New.

Form Numbers: None.

Description of the Need for the Information and its Proposed Use: This information collection will support research on the role of Family Unification Program vouchers in providing housing for youth aging out of foster care. A survey will be administered to all public housing agencies (PHA) that have an allotment of Family Unification program vouchers (n=300) to determine whether or not their program is currently serving youth aging out of foster care, and why or why not; and for those PHAs that are serving youth, to explore and document key aspects of the program, including the role of the public child welfare agency (PCWA) in the provision of services, the challenges in implementing the program and any strategies employed to overcome challenges; and any outcome data that might be available related to vouchers and their partnering Public Child Welfare Agencies (PCWA).

Frequency of Submission: Once.

| Number of respondents | Annual responses | × | Hours per response | Burden hours
Reporting Burden | 240 | 1.75 |  | 0.5 | 210

Total Estimated Burden Hours: 210.

Status: New collection.

Authority: Section 3507 of the Paperwork Reduction Act of 1995, 44 U.S.C. 35, as amended.

Dated: April 30, 2012.
Colette Pollard,
Departmental Reports Management Officer, Office of the Chief Information Officer.

[FR Doc. 2012-10822 Filed 5-3-12; 8:45 am]

BILLING CODE 4210-67-P